DEPARTMENT OF THE INTERIOR

U.S. Geological Survey

Request for Public Comments on Extension of Existing Information Collection Submitted to OMB for Review Under the Paperwork Reduction Act

A request extending the information collection described below has been submitted to the Office of Management and Budget (OMB) for approval under the provisions of the Paperwork Reduction Act of 1995 (44 U.S.C. 3506(c)(2)). Copies of the proposed collection may be obtained by contacting the Bureau's clearance officer at the phone number listed below. OMB has up to 60 days to approve or disapprove the information collection, but may respond after 30 days; therefore comments on the proposal should be made within 30 days to assure maximum consideration. Comments and suggestions should be made directly to the Desk Officer for the Interior Department, Office of Regulatory Affairs, Office of Management and Budget, Washington, DC 20503; and to the Bureau Clearance Officer, U.S. Geological Survey, 807 National Center, Reston, VA 20192.

As required by OMB regulations at 5 CFR 1320.8(d)(1), the U.S. Geological Survey solicits specific public comments as to:

1. Whether the collection of information is necessary for the proper performance of the functions of the bureaus, including whether the information will have practical utility;

2. the accuracy of the bureau's estimate of the burden of the collection of information, including the validity of the methodology and assumptions used:

3. the quality, utility, and clarity of the information to be collected; and

4. how to minimize the burden of the collection of information on those who are to respond, including the use of appropriate automated, electronic, mechanical, or other forms of information technology.

Title: User Survey for National Biological Information Infrastructure (NBII).

OMB Approval No: 1028-0069.

Summary: The collection of information referred herein applies to a voluntary survey that allows visitors to the NBII World-Wide Web site (www.nbii.gov) the opportunity to provide feedback on the utility and effectiveness of the NBII operation and contents in meeting their needs.

Estimated Completion Time: 3 minutes.

Estimated Annual Number of Respondents: 3000.

Frequency: Once.

Estimated Annual Burden Hours: 150 hours.

Affected Public: Public and private, individuals and institutions.

For Further Information Contact: To obtain copies of the survey, contact the Bureau clearance officer, U.S. Geological Survey, 807 National Center, 12201 Sunrise Valley Drive, Reston, Virginia, 20192, telephone (703) 648-7313, or go to the Website http://www.nbii.gov.

Dated: August 17, 2001.
Gladys A. Cotter,
Acting Associate Director for Biology.

[FR Doc. 01-21995 Filed 8-30-01; 8:45 am]

BILLING CODE 4310-Y7-M